DEPARTMENT OF HOMELAND SECURITY

U.S. Citizenship and Immigration Services

[CIS No. 2521-12; DHS Docket No. USCIS 2010-0010]

RIN 1615-ZB11

Extension and Redesignation of Somalia for Temporary Protected Status

AGENCY: U.S. Citizenship and Immigration Services, DHS.

ACTION: Notice.

SUMMARY: This notice announces that the Secretary of Homeland Security (Secretary) is both extending the existing designation of Somalia for temporary protected status (TPS) for 18 months from September 18, 2012 through March 17, 2014, and redesignating Somalia for TPS for 18 months, effective September 18, 2012 through March 17, 2014. The extension allows currently eligible TPS beneficiaries to retain their TPS through March 17, 2014. The redesignation of Somalia allows additional individuals who have been continuously residing in the United States since May 1, 2012, to obtain TPS, if eligible. The Secretary has determined that an extension is warranted because the conditions in Somalia that prompted the TPS designation continue to be met. There continues to be a substantial, but temporary, disruption of living conditions in Somalia based upon ongoing armed conflict and extraordinary and temporary conditions in that country that prevent Somalis who now have TPS from safely returning.

This notice also sets forth procedures necessary for nationals of Somalia (or aliens having no nationality who last habitually resided in Somalia) to re-register under the extension if they already have TPS or to submit an initial registration application under the redesignation, and to file Applications for Employment Authorization (Forms I-765) with U.S. Citizenship and Immigration Services (USCIS).

Under the redesignation, individuals who currently do not have TPS, or a TPS application pending, may apply for TPS from May 1, 2012 through October 29, 2012. In addition to demonstrating continuous residence in the United States since May 1, 2012, USCIS will determine whether initial applicants for TPS under this redesignation have demonstrated that they have been continuously physically present in the United States since September 18, 2012, the effective date of the redesignation of Somalia, before USCIS grants them TPS.

For individuals who have already been granted TPS under the Somalia designation, the 60-day re-registration period will run from May 1, 2012 through July 2, 2012. USCIS will issue new Employment Authorization Documents (EADs) with a March 17, 2014 expiration date to eligible Somali TPS beneficiaries who timely re-register and apply for EADs under this extension.

DATES: Extension of TPS: The 18-month extension of the TPS designation of Somalia is effective September 18, 2012, and will remain in effect through March 17, 2014. The 60-day re-registration period begins May 1, 2012 and will remain in effect until July 2, 2012.

Redesignation of Somalia for TPS: The redesignation of Somalia for TPS is effective September 18, 2012, and will remain in effect through March 17, 2014, a period of 18 months. The initial registration period for new applicants under the Somalia TPS re-designation will run from May 1, 2012 through October 29, 2012.

FOR FURTHER INFORMATION CONTACT:

• For further information on TPS, including guidance on the application process and additional information on eligibility, please visit the USCIS TPS Web page at http://www.uscis.gov/tps. You can find specific information about this extension of Somalia for TPS and redesignation of Somalia by selecting “TPS Designated Country—Somalia” from the menu on the left of the TPS Web page.

• You can also contact the TPS Operations Program Manager at Status and Family Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online available at the USCIS Web site at http://www.uscis.gov, or call the USCIS National Customer Service Center at 1-800-375-5283 (TTY 1-800-767-1833).

• Further information will also be available at local USCIS offices upon publication of this notice.

SUPPLEMENTARY INFORMATION:

Abbreviations and Terms Used in This Document

Act—Immigration and Nationality Act

DHS—Department of Homeland Security

DOS—Department of State

EAD—Employment Authorization Document

Government—U.S. Government

OSC—U.S. Department of Justice, Office of Special Counsel for Immigration-Related Unfair Employment Practices

Secretary—Secretary of Homeland Security

TPS—Temporary Protected Status

USCIS—U.S. Citizenship and Immigration Services

What is Temporary Protected Status (TPS)?

• TPS is an immigration status granted to eligible nationals of a country designated for TPS under the Act (or to persons without nationality who last habitually resided in the designated country).

• During the TPS designation period, TPS beneficiaries are eligible to remain in the United States and may obtain work authorization, so long as they continue to meet the requirements of TPS status.

• TPS beneficiaries may also be granted travel authorization as a matter of discretion.

• The granting of TPS does not lead to permanent resident status.

• When the Secretary of Homeland Security (Secretary) terminates a country's TPS designation, beneficiaries return to the same immigration status they maintained before TPS (unless that status has since expired or been terminated) or to any other lawfully obtained immigration status they received while registered for TPS.

When was Somalia designated for TPS?

On September 16, 1991, the Attorney General designated Somalia for TPS based on extraordinary and temporary conditions resulting from armed conflict. See 56 FR 46804. On September 4, 2001, the Attorney General redesignated Somalia for TPS. See 66 FR 46288. The Secretary of Homeland Security has extended Somalia's TPS designation several times based on a determination that the conditions warranting the designation have continued to be met. The last extension for Somalia was announced on November 2, 2010. See 75 FR 67383. This announcement is the ninth extension of TPS for Somalia since the redesignation and extension in 2001, and the second redesignation of Somalia for TPS since the original designation in 1991.

What authority does the Secretary have to extend the designation of Somalia for TPS?

Section 244(b)(1) of the Act, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the Act, 8 U.S.C. 1254a(a)(1)(A).

¹ As of March 1, 2003, in accordance with section 1517 of title XV of the Homeland Security Act of 2002 (HSA), Public Law 107-296, 116 Stat. 2135, any reference to the Attorney General in a provision of the Immigration and Nationality Act describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the Act, 8 U.S.C. 1254a(b)(3)(A). If the Secretary determines that a foreign state continues to meet the conditions for TPS designation, the designation is extended for an additional 6 months (or in the Secretary's discretion for 12 or 18 months). See section 244(b)(3)(C) of the Act, 8 U.S.C. 1254a(b)(3)(C). If the Secretary determines that the foreign state no longer meets the conditions for TPS designation, the Secretary must terminate the designation. See section 244(b)(3)(B) of the Act, 8 U.S.C. 1254a(b)(3)(B).

What is the Secretary's authority to redesignate Somalia for TPS?

In addition to extending an existing TPS designation, the Secretary, after consultation with appropriate Government agencies, may redesignate a country (or part thereof) for TPS. See section 244(b)(1) of the Act, 8 U.S.C. 1254a(b)(1); see also section 244(c)(1)(A)(i) of the Act, 8 U.S.C. 1254a(c)(1)(A)(i) (requiring that “the alien has been continuously physically present since the effective date of the most recent designation of the state”) (emphasis added). This is one of several instances in which the Secretary and, prior to the establishment of DHS, the Attorney General have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, she also has the discretion to establish the date from which TPS applicants must demonstrate that they have been “continuously resid[ing]” in the United States. See section 244(c)(1)(A)(ii) of the Act, 8 U.S.C. 1254a(c)(1)(A)(ii). This discretion permits the Secretary to tailor the “continuous residence” date to offer TPS to the group of eligible individuals that the Secretary deems appropriate.

The Secretary has determined that the “continuous residence” date for applicants for TPS under the redesignation of Somalia shall be May 1, 2012. Initial applicants for TPS under this redesignation must also show they have been “continuously physically present” in the United States since September 18, 2012, which is the effective date of the Secretary's most recent designation, or redesignation, of Somalia. See section 244(c)(1)(A)(i) of the Act, 8 U.S.C. 1254a(c)(1)(A)(i). For each initial TPS application filed under the redesignation, the final determination whether the applicant has met the “continuous physical presence” requirement cannot be made until September 18, 2012. USCIS, however, will issue employment authorization documentation, as appropriate, during the registration period in accordance with 8 CFR 244.5(b).

Why is the Secretary extending the TPS designation for Somalia and simultaneously redesignating Somalia for TPS through March 17, 2014?

Over the past year, the Department of Homeland Security (DHS) and the Department of State (DOS) have continued to review conditions in Somalia. Based on this review and after consulting with DOS, the Secretary has determined that an 18-month extension is warranted because the armed conflict is ongoing, and the extraordinary and temporary conditions that prompted the 2001 redesignation persist. The Secretary has further determined that the conditions have not only persisted, but have deteriorated in Somalia, supporting redesignating Somalia for TPS under section 244(b)(1)(A) and (C) of the Act and changing the “continuous residence” and “continuous physical presence” dates.

Two decades of conflict in Somalia and the country's most severe drought in 60 years have led to what has been referred to as the worst humanitarian crisis in the world. During this reporting period of 2010 and 2011, the number of armed groups involved on both sides of the conflict increased and the areas of intense conflict expanded. A dramatic upsurge in violence and severe drought were related factors contributing to famine experienced by six regions in south-central Somalia during 2011. All these conditions led to a rise in civilian deaths and population displacement, and left more than half the population in need of humanitarian assistance. Distribution of humanitarian aid increased significantly during 2011 and the international community has doubled its pledge for humanitarian aid to Somalia for 2012. However, the delivery of humanitarian aid continues to be impeded by numerous factors, including piracy off the coast of Somalia, difficulty accessing areas affected by seasonal flooding, general insecurity, and most notably threats to aid workers and restrictions on the presence and work of humanitarian agencies.

Conflict between the Transitional Federal Government (TFG) and allied forces on one side and insurgent militias (including al-Shabaab) on the other continued to result in high levels of civilian casualties and population displacement. In early 2010, most of the country was in the hands of Islamist insurgents, with the TFG supported by the African Union Mission in Somalia (AMISOM) controlling only a few blocks of Mogadishu. Human Rights Watch (HRW) reported continual fighting between militant Islamist groups and the TFG raging in Mogadishu (Somalia's capital) throughout 2010, with all parties conducting random attacks causing high civilian casualties. HRW further reported that opposition fighters deployed unlawfully in densely populated civilian neighborhoods and at times used civilians as “shields” to fire mortars at TFG and AMISOM. These attacks were conducted so indiscriminately that they frequently destroyed civilian homes, but rarely struck military targets. According to the United Nations (UN) Secretary-General, by early November 2011, the TFG and AMISOM were present across almost all 16 districts of Mogadishu, but many districts remained insecure and terrorist attacks by al-Shabaab occurred almost daily.

During 2010 and 2011, the conflict intensified outside of Mogadishu. The UN Security Council reported that “the relatively stable northern regions of Puntland and Somaliland have suffered increasing spillover from the conflict to the south in the form of targeted killings and bombings.” In late 2011, Kenya and Ethiopia provided assistance to the TFG and deployed troops into the border areas those countries share with Somalia to fight al-Shabaab.

An escalation in fighting contributed to high numbers of civilian casualties. An estimated 2,200 civilians were killed in 2010. Around 1,400 civilians were killed in the first half of 2011. Between January and July 2011 some 6,543 individuals were admitted to hospitals in Mogadishu with “weapon-related injuries.” In addition to being caught in the middle of fighting, civilians were also targeted by armed groups. According to an August 2011 HRW report, all forces involved in the fighting in Mogadishu “have been responsible for serious violations of international humanitarian law * * * [including] indiscriminate attacks, extrajudicial killings, arbitrary arrests and detention, and unlawful forced recruitment” (including forced recruitment of children by al-Shabaab).

Worsening conditions, famine, and conflict led to the displacement of many people within and outside Somalia, with dire consequences for the health and safety of those populations. By the end of 2011, there were an estimated 1.5 million internally displaced people (IDP) within Somalia. Approximately 470,000 Somalis fled to IDP camps at or near Mogadishu. Makeshift IDP camps provided little access to humanitarian aid and placed IDPs at risk of harassment by local militia groups. In December 2011, the UN news agency Integrated Regional Information Networks reported a sharp rise in the number of rapes reported in IDP camps.

The number of Somalis fleeing to neighboring countries drastically increased. The Office of the UN High Commissioner for Refugees (UNHCR) reported that in 2011 new Somali refugee arrivals in neighboring countries increased to 286,487, bringing the total number of Somali refugees in the region to 944,692 as of November 2011. Approximately 1,500 refugees per day crossed the border from Somalia into Ethiopia and Kenya at the peak of the famine. UNHCR expressed alarm at security incidents targeting the refugee complex in Kenya, where four targeted attacks took place between October and December 2011, including the kidnapping of three aid workers.

Conflict, displacement, and factors related to food insecurity—including severe drought, rising food prices, and restrictions on humanitarian aid—were at the root of the ongoing humanitarian crisis in Somalia during 2010 and 2011. In 2010, Amnesty International reported that the threat of piracy, insecurity, restrictions on movement and operations of aid agencies, and corruption were factors that hampered delivery of humanitarian aid to populations in need.

In July 2011 the UN declared a state of famine in parts of southern Somalia. According to the UN Office for the Coordination of Humanitarian Affairs (OCHA), by the second half of 2011, tens of thousands had died from famine. In August 2011, OCHA reported that “Somalia is currently facing the most serious food and nutrition crisis in the world in terms of both scale and severity.” During this reporting period of 2010 and 2011, Somalia had the highest malnutrition rates in the world. According to the UN Food Security and Nutrition Analysis Unit, 450,000 children were acutely malnourished throughout the country. Only 30 percent of Somalis had access to safe water, the lowest rate globally. Furthermore, food prices had drastically increased in 2011. Local cereal prices in the south had increased 270 percent in some areas. Additionally, local food shortages, an increase in global oil and food prices, and piracy had contributed to an average increase of 29 percent on all imported commodities. By the end of 2011, the UN reported that an estimated four million Somalis were in urgent need of food aid, humanitarian aid, and other assistance—more than half the country's population; three million of those were in crisis, and 250,000 were suffering from famine and were at risk of starvation.

Despite the humanitarian crisis, al-Shabaab blocked aid distribution. TFG troops reportedly complicated aid distribution by stealing aid. Reports described blanket prohibition on humanitarian aid in al-Shabaab-controlled areas; and in late November 2011, al-Shabaab announced a ban on the operations of 16 relief organizations, including the UN Children's Fund, the World Health Organization and several UN agencies inside Somalia. This ban created concerns about renewed food insecurity and severe malnutrition. It also endangers the ability of Somali people in such areas to recover from the famine, rebuild community resilience, and build reserves for future adverse weather events.

Somalia currently does not have a national government capable of providing a minimum level of human security and law and order for its citizens, and public security is unstable in many parts of Somalia. The TFG has little or no presence outside of Mogadishu, and has limited capacity to provide normal government services in the areas it does control. The TFG's capacity to process, accommodate, and provide assistance to returnees is extremely limited. Somalia faces an uncertain political future as the TFG's mandate is scheduled to end in August 2012.

Based upon this review and after consultation with appropriate Government agencies, the Secretary finds that:

• The conditions that prompted the September 4, 2001 redesignation of Somalia for TPS continue to be met. See section 244(b)(3)(A) and (C) of the Act, 8 U.S.C. 1254a(b)(3)(A) and (C).

• There continues to be an ongoing armed conflict and extraordinary and temporary conditions in Somalia that prevent Somali nationals from returning to Somalia in safety. See section 244(b)(1)(A) and (C) of the Act, 8 U.S.C. 1254a(b)(1)(A) and (C).

• It is not contrary to the national interest of the United States to permit Somalis (and persons who have no nationality who last habitually resided in Somalia) who meet the eligibility requirements of TPS to remain in the United States temporarily. See section 244(b)(1)(C) of the Act, 8 U.S.C. 1254a(b)(1)(C).

• The designation of Somalia for TPS should be extended for an additional 18-month period from September 18, 2012 through March 17, 2014. See section 244(b)(3)(C) of the Act, 8 U.S.C. 1254a(b)(3)(C).

• Since the conditions in Somalia have significantly deteriorated which further prevents the safe return of Somali nationals (and persons with no nationality who last habitually resided in Somalia), Somalia should be simultaneously redesignated for TPS effective September 18, 2012 through March 17, 2014. See section 244(b)(1)(A) and (C) and (b)(2) of the Act, 8 U.S.C. 1254a(b)(1)(A) and (C) and (b)(2).

• For the redesignation, the Secretary has determined that TPS applicants must demonstrate that they have continuously resided in the United States since May 1, 2012.

• The date by which TPS applicants must demonstrate that they have been continuously physically present in the United States is September 18, 2012, the effective date of the redesignation of Somalia for TPS.

• There are approximately 250 current Somalia TPS beneficiaries who are expected to be eligible to re-register for TPS under the extension.

• It is estimated that fewer than 1,000 additional individuals may be eligible for TPS under the redesignation of Somalia. This population includes potentially eligible Somalis who have limited time remaining as nonimmigrants or who have no other status.

Notice of Extension of the TPS Designation of Somalia and Redesignation of Somalia for TPS

By the authority vested in me as Secretary under section 244 of the Act, 8 U.S.C. 1254a, I have determined, after consultation with the appropriate Government agencies, that the conditions that prompted the redesignation of Somalia for temporary protected status on September 4, 2001, not only continue to be met but have significantly deteriorated. See section 244(b)(3)(A) of the Act, 8 U.S.C. 1254a(b)(3)(A). On the basis of this determination, I am simultaneously extending the existing TPS designation of Somalia for 18 months from September 18, 2012 through March 17, 2014, and redesignating Somalia for TPS for 18 months effective September 18, 2012 through March 17, 2014. See section 244(b)(1)(A) and (C) and (b)(2) of the Act, 8 U.S.C. 1254a(b)(1)(A) and (C) and (b)(2). I have also determined that under the redesignation eligible individuals must have continuously resided in the United States since May 1, 2012. See section 244(c)(1)(A)(ii) of the Act, 8 U.S.C. 1254a(c)(1)(A)(ii).

Janet Napolitano,
Secretary.

Required Application Forms and Application Fees To Register or Re-Register for TPS

To register or re-register for TPS for Somalia, an applicant must submit:

1. Application for Temporary Protected Status, Form I-821,

• If you are filing an initial application, you must pay the Form I-821 fee. See 8 CFR 244.2(f)(1) and 244.6 and information on initial filing on the USCIS TPS Web page at http://www.uscis.gov/tps.

• If you are filing a re-registration, you do not need to pay the Form I-821 fee. See 8 CFR 244.17; and

2. Application for Employment Authorization, Form I-765.

• If you are applying for initial registration and want an EAD, you must pay the Form I-765 fee only if you are age 14 through 65. No EAD fee is required if you are under the age of 14 or over the age of 65 and applying for initial registration.

• If you are applying for re-registration, you must pay the Form I-765 application fee only if you want an EAD.

• You do not pay the Form I-765 fee if you are not requesting an EAD, regardless of whether you are applying for initial registration or re-registration.

You must submit both completed application forms together. If you are unable to pay, you may apply for application and/or biometrics fee waivers by completing a Request for Fee Waiver (Form I-912) or submitting a personal letter requesting a fee waiver, and providing satisfactory supporting documentation. For more information on the application forms and fees for TPS, please visit the USCIS TPS Web page at http://www.uscis.gov/tps. Fees for Form I-821, Form I-765, and biometric services are also described in 8 CFR 103.7(b).

Biometric Services Fee

Biometrics (such as fingerprints) are required for all applicants 14 years of age or older. Those applicants must submit a biometric services fee. As previously stated, if you are unable to pay, you may apply for a biometrics fee waiver by completing a Form I-912, or by submitting a personal letter requesting a fee waiver, and providing satisfactory supporting documentation. For more information on the biometric services fee, please visit the USCIS Web site at http://www.uscis.gov. If necessary, you may be required to visit an Application Support Center to have your biometrics captured.

Re-Filing an Initial TPS Application After Receiving a Denial of a Fee Waiver Request

If you request a fee waiver when filing your TPS and EAD application forms and your request is denied, you may re-file your application packet with the correct fees before the filing deadline October 29, 2012. If you attempt to submit your application with a fee waiver request before the initial filing deadline, but you receive your application back with the USCIS fee waiver denial, and there are fewer than 45 days before the filing deadline (or the deadline has passed), you may still refile your application within the 45-day period after the date on the USCIS fee waiver denial notice. Your application will not be rejected even if the deadline has passed, provided it is mailed within those 45 days and all other required information for the application is included. Note: If you wish, you may also wait to request an EAD and pay the EAD application fee at a later time after USCIS grants you TPS, if you are found eligible.

Re-Filing a Re-Registration TPS Application After Receiving a Denial of a Fee Waiver Request

USCIS urges all re-registering applicants to file as soon as possible within the 60-day re-registration period so that USCIS can promptly process the applications and issue EADs. Filing early will also allow those applicants who may receive denials of their fee waiver requests to have time to re-file their applications before the re-registration deadline. If, however, an applicant receives a denial of his or her fee waiver request and is unable to refile by the re-registration deadline, the applicant may still refile his or her application. This situation will be reviewed under good cause for late re-registration. However, applicants are urged to re-file within 45 days of the date on their USCIS fee waiver denial notice, if at all possible. See section 244(c)(3)(C) of the Act; 8 U.S.C. 1254a(c)(3)(C); 8 CFR 244.17(c). For more information on good cause for late re-registration, visit the USCIS TPS Web page at http://www.uscis.gov/tps. Note: Although, as stated above, a re-registering TPS beneficiary age 14 and older must pay the biometrics fee (but not the initial TPS application fee) upon filing a TPS re-registration application, the applicant may wish to wait to request an EAD and pay the EAD application fee after USCIS has approved the individual's TPS re-registration, if he or she is eligible.

Mailing Information

Mail your application for TPS to the proper address in Table 1:

Table 1—Mailing Address
If . . . | Mail to . . .
You are applying for a re-registration or applying for an initial registration: | U.S. Postal Service: USCIS, Attn: TPS Somalia, P.O. Box 6943, Chicago, IL 60680-6943.
| Non-U.S. Postal Delivery Service: USCIS, Attn: TPS Somalia, 131 S. Dearborn—3rd Floor, Chicago, IL 60603-5517.

If you were granted TPS by an Immigration Judge (IJ) or the Board of Immigration Appeals (BIA), and you wish to request an EAD or are re-registering for the first time following a grant by the IJ or BIA, please mail your application to the address in Table 1 above. Upon receiving a Receipt Notice from USCIS, please send an email to TPSijgrant.vsc@uscis.dhs.gov with the receipt number and stating that you submitted a re-registration and/or request for an EAD based on an IJ/BIA grant of TPS. You can find detailed information on what further information you need to email and email addresses on the USCIS TPS Web page at http://www.uscis.gov/tps.

E-Filing

You cannot electronically file your application when registering or re-registering for Somalia TPS. Please mail your application to the mailing address listed in Table 1 above.

Employment Authorization Document (EAD)

May I request an interim EAD at my local USCIS office?

No. USCIS will not issue interim EADs to TPS applicants and re-registrants at local offices.

Will my current EAD that is set to expire on September 17, 2012, be automatically extended for six months?

No. This notice does not automatically extend previously issued EADs. DHS has announced the extension of the TPS designation of Somalia and established the re-registration period at an early date to allow sufficient time for USCIS to process EAD requests prior to the September 17, 2012 expiration date. You must apply during the 60-day re-registration period. Failure to apply for TPS during the re-registration period without good cause may result in gaps in work authorization. DHS strongly encourages you to apply as early as possible within the re-registration period.

When hired, what documentation may I show to my employer as proof of employment authorization and identity when completing Employment Eligibility Verification, Form I-9?

You can find a list of acceptable document choices on page 5 of the Employment Eligibility Verification, Form I-9. Employers are required to verify the identity and employment authorization of all new employees by using Form I-9. Within three days of hire, an employee must present proof of identity and employment authorization to his or her employer.

You may present any document from List A (reflecting both your identity and employment authorization), or one document from List B (reflecting identity) together with one document from List C (reflecting employment authorization). An EAD is an acceptable document under “List A.” Employers may not reject a document based on a future expiration date.

What documentation may I show my employer if I am already employed but my current TPS-related EAD is set to expire?

You must present any document from List A or any document from List C on Form I-9 to reverify employment authorization. Employers are required to reverify on Form I-9 the employment authorization of current employees upon the expiration of a TPS-related EAD but may not specify which List A or List C document employees must present. USCIS anticipates that it will be able to process and issue new EADs for existing TPS Somalia beneficiaries before their current EADs expire on September 17, 2012. However, re-registering beneficiaries are encouraged to file as early as possible within the 60-day re-registration period to help ensure that they receive their EADs promptly.

Can my employer require that I produce any other documentation to prove my status, such as proof of my Somali citizenship?

No. When completing the Form I-9, including reverifying employment authorization, employers must accept any documentation that appears on the lists of acceptable documentation, and that reasonably appears to be genuine and that relates to you. Employers may not request specific documentation, regardless of whether it does or does not appear on the Form I-9. Therefore, employers may not request proof of Somali citizenship when completing Form I-9 for new hires or reverifying the employment authorization of current employees. If presented with EADs that are unexpired on their face, employers should accept such EADs as valid “List A” documents so long as the EADs reasonably appear to be genuine and to relate to the employee. See below for important information about your rights if your employer rejects lawful documentation, requires additional documentation, or otherwise discriminates against you based on your citizenship or immigration status, or based on your national origin.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Customer Assistance Office at 1-800-357-2099. The USCIS Customer Assistance Office accepts calls in English and Spanish only. For questions about avoiding discrimination during the employment eligibility verification process, employers may call the Department of Justice (DOJ) Office of Special Counsel for Immigration-Related Unfair Employment Practices (OSC) Employer Hotline at 1-800-255-8155, which offers language interpretation in numerous languages.

Note to Employees

Employees or applicants may call the DOJ OSC Worker Information Hotline at 1-800-255-7688 (TDD for the hearing impaired is at 1‐800‐237-2515) for information regarding employment discrimination based on citizenship or immigration status, or based on national origin, or for information regarding discrimination related to the Form I-9 and E-Verify. Language interpretation is available in numerous languages. In order to comply with the law, employers must accept any document or combination of documents acceptable for Form I-9 completion if the documentation reasonably appears to be genuine and to relate to the employee. Employers may not require extra or additional documentation beyond what is required for Form I-9 completion. Further, employees who receive an initial mismatch in E-Verify must be given an opportunity to challenge the mismatch, and employers are prohibited from taking adverse action against such employees based on the initial mismatch unless and until E-Verify returns a final non-confirmation. For example, employers must allow employees challenging their mismatches to continue to work without any delay in start date or training, and without any change in hours or pay while the final E-Verify determination remains pending. Additional information is available on the OSC Web site at http://www.justice.gov/crt/about/osc/.

Note Regarding Federal, State and Local Government Agencies (Such as Departments of Motor Vehicles)

State and local government agencies are permitted to create their own guidelines when granting certain benefits. Each state may have different laws, requirements, and determinations about what documents you need to provide to prove eligibility for certain benefits. If you are applying for a state or local government benefit, you may need to provide the state or local government agency with documents that show you are a TPS beneficiary and/or show you are authorized to work based on TPS. Examples are:

(1) Your EAD that has a valid expiration date;

(2) A copy of your Application for Temporary Protected Status, Form I-821 Receipt Notice (Form I-797) for this re-registration;

(3) A copy of your past or current Form I-821 Approval Notice (Form I-797), if you receive one from USCIS.

Check with the state or local agency regarding which document(s) the agency will accept. You may also provide the agency with a copy of this notice.

Some benefit-granting agencies use the USCIS Systematic Alien Verification for Entitlements Program (SAVE) to verify the current immigration status of applicants for public benefits. If such an agency has denied your application based solely or in part on a SAVE response following completion of all required SAVE verification steps, the agency must offer you the opportunity to appeal the decision in accordance with the agency's procedures. If the agency has completed all SAVE verification and you do not believe the response is correct, you may make an Info Pass appointment for an in-person interview at a local USCIS office. Detailed information on how to make corrections, make an appointment, or submit a written request can be found at the SAVE Web site at www.uscis.gov/save, then by choosing “How to Correct Your Records” from the menu on the right.

[FR Doc. 2012-10388 Filed 4-30-12; 8:45 am]

BILLING CODE 9111-97-P